ENVIRONMENTAL PROTECTION AGENCY

40 CFR Parts 122 and 412

[OW-2005-0036; FRL-OW-2005-0000; FRL-7990-5]

Notice of Availability of Correspondence Regarding Revisions to the National Pollutant Discharge Elimination System Permit Regulation and Effluent Limitation Guidelines for Concentrated Animal Feeding Operations

AGENCY: Environmental Protection Agency (EPA).

ACTION: Notice of data availability.

SUMMARY: This notice announces the availability of correspondence and the Environmental Protection Agency's (EPA's) response to inquiries regarding the Concentrated Animal Feeding Operations (CAFOs) regulations. EPA received inquiries on the permit application date in the CAFOs regulation and whether, in response to the February 28, 2005, decision by the Second Circuit Court of Appeals issued in Waterkeeper v. EPA, 399 F.3d 486 (2nd Cir. 2005), the permit application date may be extended. The 2003 CAFO rule (68 FR 7176) (“National Pollutant Discharge Elimination System Permit Regulation and Effluent Limitation Guidelines for Concentrated Animal Feeding Operations”), hereafter known as the “2003 CAFO rule,” contains the requirement that by February 13, 2006, all newly defined CAFOs must apply for a National Pollutant Discharge Elimination System (NPDES) permit. The 2003 CAFO rule also requires that all CAFOs develop and implement a Nutrient Management Plan by December 31, 2006.

EPA is in the process of developing options for revising the 2003 CAFO rule to comply with the Second Circuit Court of Appeals' decision. The schedule for final action provides for a full and ample opportunity for public notice and comment, but it is not consistent with completion by February 13, 2006. As a result, EPA will propose to extend the permit application date of February 13, 2006, and the Nutrient Management Plan due date of December 31, 2006, in a separate NPRM. This second action will be proposed and finalized by February 13, 2006. The correspondence and the EPA's response have been added to the rulemaking docket and are available to the public.

ADDRESSES: Copies of the correspondence may be obtained from EPA's Office of Water docket identified by Docket ID No. OW-2005-0036, by one of the following methods:

(1) Agency Web site: http://www.epa.gov/edocket. EDOCKET, EPA's electronic public docket.

(2) E-mail: ow-docket@epa.gov, Attention Docket ID No. OW-2005-0036.

SUPPLEMENTARY INFORMATION:

I. General Information

A. Interested Entities

Categories and entities interested in today's notice include:

Category | Examples of interested entities
State/Local/Tribal Government |
Industry | Operators of animal production operations that meet the definition of a CAFO.
| Beef cattle feedlots (including veal).
| Beef cattle ranching and farming.
| Hogs.
| Sheep.
| General livestock except dairy and poultry.
| Dairy farms.
| Broilers, fryers, and roaster chickens.
| Chicken eggs.
| Turkey and turkey eggs.
| Poultry hatcheries.
| Poultry and eggs.
| Ducks.
| Horses and other equines.

This table is not intended to be exhaustive, but rather provides a guide for readers regarding entities likely to be regulated by this action. This table lists the types of entities that may be interested in this notice.

B. How Can I Get Copies of This Document and Other Related Information?

1. Docket. EPA has established an official public docket for the Revisions to the National Pollutant Discharge Elimination System Permit Regulation and Effluent Limitation Guidelines for Concentrated Animal Feeding Operations under Docket ID No. OW-2005-0036. The official public docket consists of the correspondence received on the CAFO 2003 rule and the February 28, 2005, decision by the Second Circuit Court of Appeals issued in Waterkeeper v. EPA, and EPA's response to this correspondence. Although a part of the official docket, the public docket does not include Confidential Business Information (CBI) or other information whose disclosure is restricted by statute. The official public docket is the collection of materials that is available for public viewing at Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. To view these documents materials, please call ahead to schedule an appointment. Every user is entitled to copy 266 pages per day before incurring a charge. The Docket may charge 15 cents a page for each page over the 266-page limit plus an administrative fee of $25.00.

An electronic version of the public docket is available through EPA's electronic public docket and comment system, EPA Dockets. You may use EPA Dockets at http://www.epa.gov/edocket/ to view scientific views, access the index listing of the contents of the official public docket, and to access those documents in the public docket that are available electronically. Once in the system, select “search,” then key in the appropriate docket identification number.

2. Electronic Access. You may access this Federal Register document electronically through the EPA Internet under the Federal Register listings at http://www.epa.gov/fedrgstr/.

Dated: October 25, 2005.
Brent Fewell,
Acting Assistant Administrator Office of Water.

[FR Doc. 05-21527 Filed 10-28-05; 8:45 am]

BILLING CODE 6560-50-P